DEPARTMENT OF HEALTH AND HUMAN SERVICES

Health Resources and Services Administration

Notice of Supplemental Award; Early Childhood Developmental Health Systems Cooperative Agreement

AGENCY: Health Resources and Services Administration (HRSA), Department of Health and Human Services.

ACTION: Notice of a HRSA-initiated supplemental award.

SUMMARY: HRSA announces the award of a supplement for a total of approximately $1 million in fiscal year (FY) 2023 for the Early Childhood Developmental Health Systems (ECDHS) cooperative agreement. The supplement will provide approximately $600,000 to the current recipient during the period of September 30, 2023, to September 29, 2024, to continue to support the implementation, spread, and scale of early childhood development (ECD) expert integration, and associated early childhood systems development. This includes providing intensive, individualized technical assistance (TA) to four additional Transforming Pediatrics in Early Childhood (TPEC) Program state-level recipients. In addition, the supplement further includes approximately $400,000 to provide TA to HRSA-funded health centers who are expanding early childhood developmental services through ECD funding.

FOR FURTHER INFORMATION CONTACT: Natalie Surfus, MPH; Public Health Analyst, Division of Home Visiting and Early Childhood Systems, Maternal and Child Health Bureau. Telephone: (240) 381-8202; Email: NSurfus@hrsa.gov.

SUPPLEMENTARY INFORMATION:

Intended Recipient of the Award: ZERO TO THREE National Center for Infant, Toddler and Families, Inc.

Amount of Non-Competitive Award: One combined supplemental award at $1 million.

Project Period: September 30, 2023, to September 29, 2024.

Assistance Listing (CFDA) Numbers: 93.110/93.129.

Award Instrument: Supplement for continued support of the implementation, spread, and scale of ECD expert integration and associated systems development nationwide and for the provision of TA to HRSA funding recipients.

Authorities: Social Security Act, title V, section 501(a)(2) (42 U.S.C. 701(a)(2)); and section 330(l) of the Public Health Service Act (42 U.S.C. 254b(l)).

Table 1—Recipients and Award Amounts
Grant No. | Award recipient name | City, state | FY23 supplement award amount
UK2MC46349 | ZERO TO THREE National Center for Infant, Toddler, and Families, Inc | Washington, DC | $1 million.

Justification: HRSA awarded the ECDHS program in FY 2022 under the Title V Maternal and Child Health Services Block Grant for Special Projects of Regional and National Significance (SPRANS). Programmatic expectations for the recipient include providing intensive, individualized TA to four state-level TPEC program (HRSA-22-141) recipients, along with specialized and universal TA opportunities with a nationwide reach, to support, spread, and scale ECD expert integration and associated systems development. The Consolidated Appropriations Act, 2023, Public Law 117-328, division B, title II, included additional SPRANS funding; House Report 117-403, which accompanied the Consolidated Appropriations Act, 2023, included an increase for ECD Expert Grants. HRSA, through its Maternal and Child Health Bureau, will therefore provide a supplement of approximately $600,000 in SPRANS funding to the current ECDHS recipient to (1) expand intensive, individualized TA to an additional four TPEC recipients; (2) support alignment between TPEC recipients, other Maternal and Child Health Bureau-funded early childhood partners, and HRSA-funded health centers to support the integration of these efforts within a comprehensive early childhood system; and (3) support the development and dissemination of additional TA resources with nationwide reach and scope, including outreach and coordination with other TA entities.

House Report 117-403 also provided guidance to HRSA's Bureau of Primary Health Care to use appropriated funds “to expand and further integrate early childhood development services and expertise, including by hiring or contracting for early childhood development specialists,” and “to create a service expansion grant opportunity for health centers, with training and technical assistance to be provided by the Maternal and Child Health Bureau. . .” (italics added). To support that service expansion grant opportunity (HRSA-23-028), an additional supplement of approximately $400,000 in Health Center Program funding will be provided under this supplement to the ECDHS recipient to adapt or create TA resources on ECD topics for all HRSA-funded health centers, provide specialized TA to subsets of HRSA-funded health centers based on particular needs, and support health centers' connection to and alignment with other relevant efforts to incorporate ECD in pediatric health services. TA resources developed using this funding will also be made available by the recipient, at no additional cost, to other HRSA-funded entities and to early childhood system programs and leaders pursuing aligned objectives, including through HRSA-supported dissemination channels.

Collectively, the supplements will leverage existing knowledge, expertise, and opportunity across HRSA and its non-federal partners to improve equitable access to a continuum of ECD services for families nationwide and will build capacity of the health system to deliver high-quality pediatric services that address the holistic needs of children and families.

Carole Johnson,
Administrator.

[FR Doc. 2023-16494 Filed 8-2-23; 8:45 am]

BILLING CODE 4165-15-P